DEPARTMENT OF DEFENSE

Department of the Army

[Docket ID: USA-2008-0028]

Privacy Act of 1974; System of Records

AGENCY: Department of the Army, DoD.

ACTION: Notice to delete five System of Records Notices.

SUMMARY: The Department of the Army is deleting five system of records notices in its existing inventory of record systems subject to the Privacy Act of 1974 (5 U.S.C. 552a), as amended.

DATES: This proposed actions will be effective without further notice on August 25, 2008 unless comments are received which result in a contrary determination.

ADDRESSES: Send comments to the Department of the Army, Records Management and Declassification Agency, Privacy Division, 7701 Telegraph Road, Alexandria, VA 22315.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The Department of Army proposes to five delete system of records notices from its inventory of record systems subject to the Privacy Act of 1974 (5 U.S.C. 552a), as amended. The proposed deletion is not within the purview of subsection (r) of the Privacy Act of 1974 (5 U.S.C. 552a), as amended, which requires the submission of new or altered systems reports.

Dated: July 17, 2008.
Patricia L. Toppings,
OSD Federal Register Liaison Officer, Department of Defense.

A0190-30 DAMO

SYSTEM NAME:

Military Police Investigator Certification Files (February 22, 1993, 58 FR 10002).

REASON:

Commanders can no longer certify personnel to perform military police investigations. The military police investigations regulation requires all personnel performing investigations to be trained at the U.S. Army Military Police School at Fort Leonard Wood, Missouri.

A0210-60 SAFM

SYSTEM NAME:

Check Cashing Privilege Files (February 22, 1993, 58 FR 10002).

REASON:

These files are covered under system of records notice AAFES 0702.22, System name: Check-Cashing Privilege Files (August 9, 1996, 61 FR 41585).

A0037-202 SAFM

SYSTEM NAME:

FHA Mortgage Payment Insurance Files (February 22, 1993, 58 FR 10002).

REASON:

FHA Mortgage Insurance system is no longer an active program.

A0360 SAIS

SYSTEM NAME:

Mailing List for Army Newspapers/Periodicals/Catalogs (February 22, 1993, 58 FR 10002).

REASON:

These types of records are no longer monitored or maintained.

A0215-1a SAFM

SYSTEM NAME:

Nonappropriated Funds Central Payroll System (NAFCPS) (February 22, 1993, 58 FR 10002).

REASON:

These are records are now covered under System of Records Notice T7206, Nonappropriated Funds Central Payroll System (NAFCPS) (June 24, 2008, 73 FR 35669).

[FR Doc. E8-17027 Filed 7-24-08; 8:45 am]

BILLING CODE 5001-06-P